DEPARTMENT OF HEALTH AND HUMAN SERVICES

National Institutes of Health

Center for Scientific Review; Amended Notice of Meeting

Notice is hereby given of a change in the meeting of the Systemic Injury by Environmental Exposure, February 20, 2020, 8:00 a.m. to February 21, 2020, 5:00 p.m. at the Lorien Hotel & Spa, 1600 King Street, Alexandria, VA 22314 which was published in the Federal Register on January 28, 2020, 85 FR 5000.

The Contact Person for this meeting has been changed to Ganesan Ramesh, Ph.D., Scientific Review Officer, Telephone: (301) 827-5467, Email: Ganesan.ramesh@nih.gov. The meeting date and time remain the same. The meeting is closed to the public.

Dated: February 6, 2020.
Melanie J. Pantoja,
Program Analyst, Office of Federal Advisory Committee Policy.

[FR Doc. 2020-02754 Filed 2-11-20; 8:45 am]

BILLING CODE 4140-01-P